DEPARTMENT OF AGRICULTURE

Forest Service

Federal Lands Recreation Enhancement Act, Proposed Addition of the Crescent Mining Camp and Dawson Cabins to the Recreation Fee Site Program

AGENCY: Leadville Ranger District, San Isabel National Forest, Rocky Mountain Region, Forest Service.

Authority: The Federal Lands Recreation Enhancement Act, as part of the December 8, 2005, Consolidated Appropriations Act (Pub. L. 108-447).

Notice: Two additional expanded amenity recreation fee sites are proposed to the Forest Service Historic Cabin Rental Program.

SUMMARY: The Pike and San Isabel National Forests have an active cabin rental program that has been in operation since 2001 under the Recreation Fee Demonstration Authority. Four cabins have been available to the public for overnight rental since the inception of this program. The original intent of this program was to expand the number of rental opportunities using the revenue from the program. Two additional sites, the Dawson Cabin and Crescent Mining Camp, are now ready to be added to the program. These cabins would fall under Category 3.C, Expanded Amenity Recreation Sites and Services. Without the authority to charge a fee for these facilities the Forest Service would not be able to make them available to the public.

DATES: Transition is effective six months from publication of this Federal Register and concurrence by the appropriate Resource Advisory Committee.

FOR FURTHER INFORMATION CONTACT: Neal Weierbach, Recreation Program Manager, 719-553-1510 or nweierbach@fs.fed.us. Or, Jim Zornes, Leadville District Ranger, 719-486-0749.

SUPPLEMENTARY INFORMATION: The Responsible Official (Forest Supervisor) for the Pike and San Isabel National Forests, Cimarron and Comanche National Grasslands has elected to expand the previously mentioned Historic Cabin Rental Program under the authority of the Federal Lands Recreation Enhancement Act. The cabins originally operated under the Recreation Fee Demonstration Program will continue under this new authority, and additional cabins will be added to the program as they are restored.

The public is invited to comment on the addition of these cabins to the program. Additional information on the cabins can be located at http:www.reserveamerica.com.

Dated: March 6, 2006.
Robert J. Leaverton,
Forest Supervisor.

[FR Doc. 06-2318 Filed 3-9-06; 8:45 am]

BILLING CODE 3410-ES-M